DEPARTMENT OF ENERGY

Office of Science

Fusion Energy Sciences Advisory Committee

AGENCY: Department of Energy.

ACTION: Notice of Open Meeting.

SUMMARY: This notice announces a meeting of the Fusion Energy Sciences Advisory Committee. The Federal Advisory Committee Act (Pub. L. 92-463, 86 Stat. 770) requires that public notice of these meetings be announced in the Federal Register.

DATES: Wednesday, August 1, 2001, 9:00 a.m. to 6:00 p.m.; Thursday, August 2, 2001, 9:00 a.m. to 5:30 p.m.

ADDRESS: Princeton Plasma Physics Laboratory, Room LSB-318, James Forrestal Campus U.S. Route #1 North at Sayre Drive, Princeton, New Jersey 08543.

FOR FURTHER INFORMATION CONTACT: Albert L. Opdenaker, Office of Fusion Energy Sciences; U.S. Department of Energy; 19901 Germantown Road; Germantown, MD 20874-1290; Telephone: 301-903-4927.

SUPPLEMENTARY INFORMATION: Purpose of the Meeting: The major purpose of this meeting is for the full committee to complete its work on the Theory Program review charge and the Burning Plasma Science charge. The committee will also receive briefings on the various elements of the Compact Stellarator program, and the ITER Canada proposal to host the International Thermonuclear Experimental Reactor (ITER).

Tentative Agenda

Wednesday, August 1, 2001

• DOE/Office of Fusion Energy Sciences (OFES) Perspective

• Report from the Theory Review Panel

• Office of Management and Budget Views on the National Research Council fusion report and on the National Energy Policy

• Presentations on the Compact Stellarator Program

• Tour of Princeton Plasma Physics Laboratory (PPPL) Facilities

Thursday, August 2, 2001

• Presentation from ITER Canada-Proposal to build the ITER Facility in Ontario

• Report from the Burning Plasma Science Panel

• Public Comments

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW.; Washington, DC, between 9:00 a.m. and 4:00 p.m., Monday through Friday, except Federal holidays.

Issued at Washington, D.C., on July 12, 2001.
Rachel M. Samuel,
Deputy Advisory Committee Management Officer.

[FR Doc. 01-17915 Filed 7-17-01; 8:45 am]

BILLING CODE 6450-01-P